ENVIRONMENTAL PROTECTION AGENCY

40 CFR Part 81

[Docket Id-00-01; FRL-6920-8]

Finding of Attainment for PM-10; Portneuf Valley PM-10 Nonattainment Area, Idaho

AGENCY: Environmental Protection Agency (EPA or we).

ACTION: Proposed rule; extension of comment period.

SUMMARY: EPA is extending the public comment period on EPA's notice of proposed rulemaking “Finding of Attainment for PM-10; Portneuf Valley PM-10 Nonattainment Area, Idaho,” published on December 6, 2000 at 65 FR 76203. The comment period was originally scheduled to close on December 26, 2000. The comment period is being extended until January 19, 2001.

DATES: All comments regarding EPA's proposed rulemaking published on December 6, 2000 must be received by EPA in writing on or before close of business on January 19, 2001.

ADDRESSES: Written comments should be mailed to Debra Suzuki, SIP Manager, Office of Air Quality, Mailcode OAQ-107, EPA Region 10, 1200 Sixth Avenue, Seattle, Washington, 98101. Copies of documents relevant to this action are available for public review during normal business hours (8:00 AM to 4:30 PM) at this same address.

FOR FURTHER INFORMATION CONTACT: Steven K. Body, Office of Air Quality, EPA Region 10, 1200 Sixth Avenue, Seattle Washington, 98101, (206) 553-0782.

SUPPLEMENTARY INFORMATION: On December 6, 2000, we solicited public comment on a proposal to find that the Portneuf Valley nonattainment area in Idaho has attained the National Ambient Air Quality Standard (NAAQS) for particulate matter with an aerodynamic diameter of less than, or equal to a nominal ten micrometers (PM-10) as of December 31, 1996. See 65 FR 76203. In the proposal, we stated that EPA would accept public comments on the proposal until December 26, 2000.

EPA has received a request to extend the public comment period. In light of this request, we are extending the public comment period to January 19, 2001, resulting in a public comment period of 44 days. All written comments received by EPA by January 19, 2001, will be considered in our final action.

List of Subjects in 40 CFR Part 81

Environmental protection, Air pollution control, Intergovernmental relations, Particulate matter.

Dated: December 15, 2000.
Ronald A. Kreizenbeck,
Acting Regional Administrator, Region 10.

[FR Doc. 00-32563 Filed 12-20-00; 8:45 am]

BILLING CODE 6560-50-U